DEPARTMENT OF COMMERCE

Foreign-Trade Zones Board

[B-46-2017]

Foreign-Trade Zone (FTZ) 106—Oklahoma City, Oklahoma, Notification of Proposed Production Activity, Eastman Kodak Company, (Printing Flexographic Plates), Weatherford, Oklahoma

Eastman Kodak Company (Eastman Kodak) submitted a notification of proposed production activity to the FTZ Board for its facility in Weatherford, Oklahoma. The notification conforming to the requirements of the regulations of the FTZ Board (15 CFR 400.22) was received on June 21, 2017.

The request indicates that a separate application for subzone designation for the Eastman Kodak facility under FTZ 106 will be submitted. The facilities will be used to produce printing flexographic plates. Pursuant to 15 CFR 400.14(b), FTZ activity would be limited to the specific foreign-status materials/components and specific finished products described in the submitted notification (as described below) and subsequently authorized by the FTZ Board.

Production under FTZ procedures could exempt Eastman Kodak from customs duty payments on the foreign-status materials/components used in export production. On its domestic sales, for the foreign-status materials/components noted below, Eastman Kodak would be able to choose the duty rate during customs entry procedures that apply to: Flexographic finished plates; aluminum finished printing plates; thermo imaging layer; direct imaging recording film sheets; and, direct imaging record film rolls (duty rates range from free to 3.7%). Customs duties also could possibly be deferred or reduced on foreign-status production equipment.

The materials/components sourced from abroad include: Aging inhibitor; stabilizer; photopolymerization initiator; resins for coating; ethanaminium; inhibitor; coating solvent; light stabilizer for coating; 3H-Indolium; photoinitiators; coatings for plates; aluminum finished printing plates; flexographic finished plates; mat film sheets; butadiene polymers; thermoplastic elastomers; plate manufacturing chemicals; intermediates for production of printing plates; co-polymers; monomers; propenoic acid; naphthalenesulfonic acid; urethane acrylate polymers; phonolic resin solutions; foam interleave sheets; aluminum coils of aluminum not alloyed; aluminum coils of aluminum alloys; aluminum coils of a thickness not exceeding 0.15mm: of a thickness exceeding 0.01mm; and, aluminum coils of a thickness exceeding 0.15mm but not exceeding 0.2mm (duty rates range from free to 6.5%).

Public comment is invited from interested parties. Submissions shall be addressed to the Board's Executive Secretary at the address below. The closing period for their receipt is August 16, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: July 3, 2017.
Elizabeth Whiteman,
Acting Executive Secretary.

[FR Doc. 2017-14279 Filed 7-6-17; 8:45 am]

BILLING CODE 3510-DS-P